DEPARTMENT OF THE INTERIOR

Fish and Wildlife Service

[FWS-R2-ES-2011-N155; 20124-1112-0000-F2]

Draft Environmental Impact Statement and Draft Habitat Conservation Plan for Oncor Electric Delivery Facilities in 100 Texas Counties

AGENCY: Fish and Wildlife Service, Interior.

ACTION: Notice; correction.

SUMMARY: We, the U.S. Fish and Wildlife Service, correct a previously published notice that announced the availability of the draft environmental impact statement (DEIS) and the draft Oncor Electric Delivery Company, LLC, habitat conservation plan (HCP). Due to an inadvertent error, the prior notice mischaracterized the alternatives evaluated in the draft environmental impact statement. We correct the descriptions of the alternatives in this notice. The error was not in the DEIS or the HCP, but only in our previous notice.

DATES: Comments: We must receive written comments on the draft environmental impact statement and draft habitat conservation plan on or before close of business (4:30 p.m. CDT) October 13, 2011.

Public meetings: Up to nine public meetings will take place throughout Oncor's proposed 100-county permit area through September 28, 2011. Exact meeting locations and times will be announced in local newspapers, on the Austin Ecological Services Office Web site (http://www.fws.gov/southwest/es/AustinTexas/), and on Oncor's Web site (http://www.oncor-eis-hcp.com) at least 2 weeks prior to each meeting.

FOR FURTHER INFORMATION CONTACT: Mr. Adam Zerrenner, Field Supervisor, by U.S. mail at U.S. Fish and Wildlife Service, 10711 Burnet Road, Suite 200, Austin, TX 78758, or by phone at (512) 490-0057.

SUPPLEMENTARY INFORMATION:

Background

On July 15, 2011, we published a notice in the Federal Register (76 FR 41808) that announced that Oncor Electric Delivery Company, LLC, has applied under section 10(a)(1)(B) of the Endangered Species Act of 1973, as amended (16 U.S.C. 1531 et seq.) (Act), for an incidental take permit (ITP) (TE-40918A-0). The requested ITP, which would be in effect for a period of 30 years if granted, would authorize incidental take of 11 federally listed species. The proposed incidental take would occur in 100 Texas counties that comprise the Applicant's service area, excluding Williamson and Travis counties and with the addition of Runnels County, and would result from activities associated with maintenance and repair of existing electric facilities and installation and operation of new facilities.

The July 15, 2011, notice (76 FR 41808) provided information about Oncor's draft habitat conservation plan (HCP) and our draft environmental impact statement (DEIS) prepared under the National Environmental Policy Act of 1969 (42 U.S.C. 4321 et seq.). Please refer to that notice for further information, including details about public meetings, ways to obtain copies of the documents, and comment submission.

Due to an inadvertent error, the July 15, 2011, Federal Register notice did not accurately reflect the three alternatives explored in the DEIS. Therefore, we correct our description of the alternatives below in this document. Please note that all the documents we made available from the date of publication of our earlier notice (July 15, 2011) are correct. If you already obtained any documents for review, you do not need to get new copies. The only error was in the text of our notice.

Alternatives

The DEIS examines three alternatives:

1. No Action—Project-Based Consultation—Project-by-project consultations or ITPs. This alternative would require Oncor to seek authorization on a project-by-project basis to address incidental take resulting from their actions, as needed, through section 7 of the Act or under section 10(a)(1)(B).

2. Preferred Alternative—Proposed Alternative with 30-year Duration—Issuance of an ITP by the Service for covered activities in the 100-county permit area, pursuant to section 10(a)(1)(B) of the Act. This is the Applicant's preferred alternative. The activities that would be covered by the ITP are general activities associated with new construction, maintenance, and emergency response and restoration, including stormwater discharges from construction sites, equipment access, and surveying. Construction activities covered for new facilities include new overhead transmission and distribution lines, new support facilities such as substations and switching stations, underground electric installation, and second-circuit addition on existing structures. Maintenance activities would include vegetation management within rights of way, expansion of existing support facilities, line upgrades, insulator replacement, and maintenance of underground electric facilities. The requested ITP will cover the 100-county permit area. The requested term of the permit is 30 years.

To meet the requirements of a section 10(a)(1)(B) ITP, the Applicant has developed and will implement the draft HCP, which describes the conservation measures the Applicant has agreed to undertake to minimize and mitigate for incidental take of the covered species to the maximum extent practicable. As described in the draft HCP, the Applicant anticipates that incidental take would not appreciably reduce the likelihood of the survival and recovery of these species in the wild.

3. Proposed Alternative with 50-year Duration—Issuance of an ITP by the Service for covered activities in the 100-county permit area, pursuant to section 10(a)(1)(B) of the Act. This alternative would cover the same activities as the preferred alternative, but for a longer period of time. The requested term of the permit is 50 years.

Authority

We provide this notice under section 10(c) of the Act (16 U.S.C. 1531 et seq.) and its implementing regulations (50 CFR 17.22) and NEPA (42 U.S.C. 4321 et seq.) and its implementing regulations (40 CFR 1506.6).

Joy E. Nicholopoulos,
Acting Regional Director, Southwest Region, Albuquerque, New Mexico.

[FR Doc. 2011-24752 Filed 9-26-11; 8:45 am]

BILLING CODE 4310-55-P